DEPARTMENT OF TRANSPORTATION

Federal Aviation Administration

Executive Committee of the Aviation Rulemaking Advisory Committee; Meeting

AGENCY: Federal Aviation Administration (FAA), DOT.

ACTION: Notice of meeting.

SUMMARY: The FAA is issuing this notice to advise the public of a meeting of the Executive Committee of the Federal Aviation Administration Rulemaking Advisory Committee.

DATE: The meeting will be held on February 9, 2000 at 10 a.m.

ADDRESSES: The meeting will be held at the Department of Transportation, 400 7th Street, SW, Rooms 6200-6204, Washington, DC 20590.

FOR FURTHER INFORMATION CONTACT: Regina Jones, Federal Aviation Administration, 800 Independence Avenue, SW, Washington, DC 20591, telephone (202) 267-9822; fax (202) 267-5075; e-mail Regina.Jones@faa.gov.

SUPPLEMENTARY INFORMATION: Pursuant to section 10(a)(2) of the Federal Advisory Committee Act (Pub. L. 92-463; 5 U.S.C. App. II), notice is hereby given of a meeting of the Executive Committee to be held on February 9, 2000, at the Department of Transportation, 400 7th Street, SW, Rooms 6200-6204, Washington, DC 20590. The agenda will include:

• Use of proxy votes

• ARAC Chair

• Aviation Consumer Action Project (ACAP) motions

Attendance is open to the interested public but will be limited to the space available.

The public must make arrangements by February 7, to present oral statements at the meeting. The public may present written statements to the executive committee at any time by providing 25 copies to the Executive Director, or by bringing the copies to the meeting.

If you are in need of assistance or require a reasonable accommodation for this meeting, please contact the person listed under the heading FOR FURTHER INFORMATION CONTACT.

Issued in Washington, DC, on January 18, 2000.
Anthony F. Fazio,
Executive Director, Aviation Rulemaking Advisory Committee.

[FR Doc. 00-1649 Filed 1-21-00; 8:45 am]

BILLING CODE 4910-13-M